FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the notices are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th and Constitution Avenue NW, Washington DC 20551-0001, not later than October 31, 2019.

A. Federal Reserve Bank of Kansas City (Dennis Denney, Assistant Vice President) 1 Memorial Drive, Kansas City, Missouri 64198-0001:

1. John Houghton, James Houghton, Eric Houghton, Allison Houghton, Betty Houghton, Mary Kay Houghton, Kaleb Houghton, and Andrew Hoffman, all of McPherson, Kansas; Marcus Houghton, Corbin Houghton, Paige Moore, and Hannah Nesbitt, all of Wichita, Kansas; and Timothy Houghton, Milwaukee, Oregon; to be approved as members acting in concert with the Houghton Family Control Group, to acquire voting shares of PBT Bancshares, Inc. and thereby indirectly acquire voting shares of Peoples Bank and Trust Company, both of McPherson, Kansas.

Board of Governors of the Federal Reserve System, October 11, 2019.
Yao-Chin Chao,
Assistant Secretary of the Board.

[FR Doc. 2019-22723 Filed 10-17-19; 8:45 am]

BILLING CODE P